DEPARTMENT OF DEFENSE

Department of the Army; Corps of Engineers

Intent To Prepare a Draft Environmental Impact Statement for the Surf City and North Topsail Beach, NC, Shore Protection Project

AGENCY: Department of the Army, U.S. Army Corps of Engineers, DoD.

ACTION: Notice of intent.

SUMMARY: Surf City and North Topsail Beach are located on Topsail Island, a barrier island on North Carolina's central coast. Storm activity has resulted in severe erosion of the protective berm and dune along the ocean shoreline of the area, as well as damage to numerous structures and their contents. Studies conducted to address these problems were included in House Document 393, 102nd Congress, “West Onslow Beach and New River Inlet, North Carolina,” which was approved by Congress in 1992. This report recommended a hurricane protection and beach erosion control project for approximately 3.6 miles of oceanfront at Topsail beach, but determined that such improvements were economically infeasible for the northernmost portion of the island, including Surf City and North Topsail Beach. However, the six hurricanes that passed through the area during 1996-1999 inflicted heavy damages to these towns and, as a result, Congress directed that a review be made of the 1992 report to determine the advisability of modifying its recommendations with regard to shore protection for Surf City and North Topsail beach.

The potential for shoreline protection was subsequently reexamined in the “Surf City and North Topsail Beach, North Carolina, Reconnaissance Report” of May 2001, which recommended continued Federal participation a feasibility study. The feasibility study was initiated in 2002 and is ongoing.

FOR FURTHER INFORMATION CONTACT: Questions about the proposed action and Draft Environmental Impact Statement (DEIS) can be answered by Ms. Jenny Owens; Environmental Resources Section; U.S. Army Engineer District, Wilmington; Post Office Box 1890; Wilmington, NC 28402-1890; telephone: (910) 251-4757.

SUPPLEMENTARY INFORMATION: Feasibility studies will investigate the entire oceanfront along Surf City and North Topsail Beach, except for portions of North Topsail Beach located within the Coastal Barrier Resources System (CBRS). The Coastal Barrier Resources Act of 1982 renders units of the CBRS ineligible for Federal funding that could encourage their development. The principal purpose of a Federal project would be the reduction of damages associated with hurricane and storm events and beach erosion. Potential benefits from the project would include protection of the towns' structures and related infrastructure (i.e., roads, utility lines, etc.), as well as improvements in aesthetic qualities and recreational opportunities at the beaches.

The feasibility studies will evaluate several alternatives to address shore protection and related issues. These alternatives may include: (1) Construction of berms and dunes along all or portions of the oceanfront within the study area; (2) Removal and/or relocation of threatened structures; and (3) No Federal action. The maximum potential project length is approximately 10 miles (the 17 miles from New River Inlet south to the Surf City-Topsail Beach town limits exclusive of approximately 7 miles within the CBRS). The selection of final project features and reaches for inclusion in a recommended plan will be based on a maximization of net benefits.

During the feasibility studies, potential estuarine, inlet, offshore, and upland sources of borrow material will be investigated, and quantities of sand required for berm and dune construction will be determined. Estimated sand volumes and placement frequency for project maintenance will also be developed.

Alternative methods of beach nourishment and dredging of offshore borrow areas will be evaluated, including the use of ocean-certified hydraulic pipeline and/or hopper dredges.

All private parties and Federal, State, and local agencies having an interest in the study are hereby notified of the study and are invited to comment at this time. A scoping letter requesting input to the study was sent to all known interested parties on February 14, 2001.

A formal scoping meeting is not planned at this time but may be held if it is determined that new information may be obtained that would not otherwise be available. All comments received as a result of this notice of intent and the previous scoping letter will be considered in the preparation of the DEIS.

Significant environmental resources to be addressed during project studies and in the DEIS include: (1) Endangered and threatened species; (2) Fish and wildlife and their habitats, including essential fish habitat; (3) Water quality; (4) Socioeconomic resources; and (5) Cultural resources. Efforts will be made to enhance resource conditions and minimize adverse impacts.

The lead agency for this project is the U.S. Army Corps of Engineers District, Wilmington. Cooperating agency status has not been assigned to any other agency. The DEIS is being prepared in accordance with the requirements of the National Environmental Policy Act of 1969, as amended, and will address the relationship of the proposed action to all other applicable Federal and State Laws and Executive Orders. The DEIS is currently scheduled for distribution to the public in the winter of 2005.

Dated: December 2, 2003.
W. Eugene Tickner, P.E.,
Deputy District Engineer, Programs and Project Management.

[FR Doc. 03-31338 Filed 12-18-03; 8:45 am]

BILLING CODE 3710-CE-M